DEPARTMENT OF HOMELAND SECURITY

Coast Guard

33 CFR Part 155

[USCG-1998-3417]

RIN 1625-AA19

Salvage and Marine Firefighting Requirements; Vessel Response Plans for Oil

AGENCY: Coast Guard, DHS.

ACTION: Rule; information collection approval.

SUMMARY: On December 31, 2008, the Coast Guard amended the vessel response plan salvage and marine firefighting requirements for tank vessels carrying oil. The amendment triggered information collection requirements affecting vessel response planholders required to establish evidence that they have properly planned to mitigate oil outflow and to provide that information to the Coast Guard for its use in emergency response. This notice announces that the collection of information has been approved by the Office of Management and Budget (OMB) and may now be enforced. The OMB Control Number is 1625-0066.

DATES: The collection of information requirements under 33 CFR 155, subpart I will be enforced beginning September 3, 2010.

FOR FURTHER INFORMATION CONTACT: If you have questions on this document, contact Lieutenant Commander Ryan Allain at 202-372-1226 or Ryan.D.Allain@uscg.mil. If you have questions on viewing the docket (USCG-1998-3417), call Ms. Renee V. Wright, Program Manager, Docket Operations, telephone 202-366-9826.

SUPPLEMENTARY INFORMATION: On December 31, 2008, the Coast Guard published a final rule entitled “Salvage and Marine Firefighting Requirements; Vessel Response Plans for Oil” (73 FR 80618). This final rule amended the vessel response plan salvage and marine firefighting requirements for tank vessels carrying oil. Those revisions clarified the salvage and marine firefighting services that must be identified in vessel response plans and set new response time requirements for each of the required salvage and marine firefighting services. The changes ensured that the appropriate salvage and marine firefighting resources were identified and available for responding to incidents up to and including the worst-case discharge scenario. Those revisions triggered information collection requirements under 33 CFR 155, subpart I (see 155.4020). This provision requires that planholders show evidence that they have properly planned to mitigate oil outflow and to provide that information to the Coast Guard for its use in emergency response. This evidence includes name and contact information for resource providers for each vessel with appropriate equipment and resources located in each zone of operation, marine firefighting pre-fire plans, and certification that the responders are qualified and have given permission to be included in the vessel response plan. The Coast Guard will use this information to determine whether a vessel meets the salvage and marine firefighting requirements.

With the exception of this collection of information, the Salvage and Marine Firefighting Requirements; Vessel Response Plans for Oil final rule became effective on January 30, 2009. As required by the Paperwork Reduction Act of 1995 (44 U.S.C. 3501-3520), the preamble to the final rule stated that the Coast Guard would not enforce the collection of information requirements occurring under 33 CFR 155, subpart I until the collection of information request was approved by OMB, and also stated that the Coast Guard would publish a notice in the Federal Register announcing that OMB approved and assigned a control number for the requirement.

The Coast Guard submitted the information collection request to OMB for approval in accordance with the Paperwork Reduction Act of 1995. On August 20, 2010, OMB approved the collection of information and assigned the collection OMB Control Number 1625-0066 entitled “Vessel and Facility Response Plans (Domestic and Int'l), and Additional Response Requirements for Prince William Sound, Alaska.” The approval for this collection of information expires on August 31, 2013. A copy of the OMB notice of action is available in our online docket at http://www.regulations.gov.

Dated: August 30, 2010.
J.G. Lantz,
Director of Commercial Regulations and Standards, U.S. Coast Guard.

[FR Doc. 2010-22022 Filed 9-2-10; 8:45 am]

BILLING CODE 9110-04-P